DEPARTMENT OF JUSTICE

National Institute of Corrections

Solicitation for a Cooperative Agreement: Document—A Guide to Developing a Jail Information System

AGENCY: National Institute of Corrections, Department of Justice.

ACTION: Solicitation for a Cooperative Agreement.

SUMMARY: The National Institute of Corrections, Jails Division, is seeking applications for the development of a document that provides jail administrators, managers, and technical support staff with a practical guide to developing and using a jail information system.

DATES: Applications must be received by 4 p.m. (EDT) on April 2, 2009.

ADDRESSES: Submit mailed applications to: Director, National Institute of Corrections, 320 First Street, NW., Room 5007, Washington, DC 20534. Applicants are encouraged to use Federal Express, UPS, or a similar service to ensure delivery by the due date.

Submit hand-delivered applications to 500 First Street, NW., Washington, DC 20534. At the front desk, dial 7-3106, ext. 0 for pickup.

Faxed or e-mailed applications will not be accepted. Submit electronic applications via http://www.grants.gov.

FOR FURTHER INFORMATION CONTACT: Download a copy of this announcement from the NIC Web site at http://www.nicic.gov.

Direct all technical or programmatic questions concerning this announcement to Fran Zandi, Correctional Program Specialist, National Institute of Corrections. She can be reached by calling 1-800-995-6423, ext. 7-1070 or by e-mail at fzandi@bop.gov.

SUPPLEMENTARY INFORMATION: Background: Each day jail administrators and practitioners routinely make decisions about jail management and operations that have a significant influence on resource acquisition and management, inmate supervision and behavior management, staffing levels, staff performance, planning for future jail construction, and population management. To make effective decisions, jail administrators and managers should have sufficient information to assess the issue at hand, identify their options, project the implications of those options, choose the best option that they can explain and justify clearly, and plan and implement the choice.

Accurate and timely information is essential not only to decisions about jail operations, but also to the work of the local criminal justice system. The jail is an integral part of this system, and jail practitioners must be able to provide information about the inmate population to criminal justice stakeholders as they develop strategies to manage the system to ensure its overall effectiveness and efficiency. Information is critical to decisionmaking, and jails must develop the analytic infrastructure needed to turn data into useful information.

NIC has produced documents in the past such as “How to Collect and Analyze Data: A Manual for Sheriffs and Jail Administrators,” “Jail Crowding—Understanding Jail Population Dynamics,” “Objective Jail Classification: A Guide for Jail Administrators,” and the three-part “Budget Guide for Jail Administrators.” Each of these documents provides specific information and instruction about a particular component of jail operations. The proposed document should not replicate the previous material but provide a framework for jurisdictions to develop an overall information system.

Objectives: The National Institute of Corrections wishes to produce a document that gives jail administrators, managers, and technical support staff guidance on defining an information system, identifying the decisions for which administrators need data, building a data collection plan, determining access to and distribution of the data, and planning for automation.

Document Audience: This guide is for use by jail administrators, managers, and technical support staff in jails of all sizes.

Use of Document: The document will be a practical guide for developing a comprehensive jail management information system.

Document Distribution: NIC expects to distribute the document widely. It will make the document available on the NIC Web site and through the NIC Information Center, upon request and free of charge.

Document Content: The document will be a clear, practical guide for jail administrators, managers, and technical support staff on defining, building, and using an information system. It must account for diversity among jails in terms of their relative size and resources. The document will include, at a minimum, (1) A description or definition of an information system. (Agencies often assume the term “information system” refers only to an automated system or computer system.) Researchers have well documented the benefit of collecting and analyzing data. Jurisdictions, however, have less success in developing a system that gathers critical data at specific intervals, uses the data for decisionmaking, and gives stakeholders access to the data in a well-designed manner. An information system must be more than a data repository. (2) Guidance on how to build a data collection plan or process. The document should outline the process in developing a data collection plan. Activities such as agreeing on a common strategy, addressing each participant's needs, building in accountability and quality assurance for data input, and understanding its limitations are necessary to developing a robust and sustainable plan. (3) Identification of the types of decisions for which data is needed, such as those relating to new jail planning, the implementation and effectiveness of inmate programs, staffing levels, budget needs, staff performance, inmate behavior management, inmate risk and needs assessment, and inmate population management. The document should lead jail practitioners to the realization that organized, quality data is essential to effective decisionmaking. (4) A brief discussion of statistics, how to interpret them, and how to turn data into usable information. The document should include an appendix with tools, forms, and supplementary materials that will assist jurisdictions in developing, implementing, and managing their information system. (5) Specific examples of how jails have used information systems successfully (brief case studies or other strategy). (6) Discussion of retention schedules. Although retention schedules vary from state to state, retaining paper documents and electronic material for a specific length of time is critical to the development of an information system. Although retention schedules most often refer to paper files and materials, the document should also address electronic storage. (7) Guidance on broadening the use of data management throughout the larger criminal justice system. The jail is one component of the criminal justice system, but it can provide critical data to criminal justice stakeholders as they grapple with planning and policy development. (8) Guidance on preparing for automation. Jurisdictions are often ill equipped to evaluate and select an automated system and may be unsatisfied with the results. Changing or modifying business practices is just one component of preparing for automation that is overlooked or misunderstood. The document should assist jurisdictions in identifying possible barriers to successful automation. (9) A glossary of terms applicable to this project.

Project Description: The awardee will produce a completed document that has received initial editing from a professional editor. NIC will be responsible for the final editing process and document design, but the awardee will remain available during this time to answer questions and revise to the document as necessary.

Project Schedule: The following list shows the major activities required to complete the project. Document development will begin upon award of this agreement and must be completed 18 months after the award date. The schedule for completion of activities should include, at a minimum, meeting with an NIC project manager for an overview of the project and initial planning; reviewing materials that NIC provides; completing the initial outline of document content and layout; meeting with an NIC project manager to review, discuss, and agree on a content outline; researching content topics and related resources; submitting draft sections of the document to NIC for review; revising draft sections for NIC's approval; submitting the document to an editor that the awardee has hired for first content edit; submitting a draft of the entire document to NIC for review; revising the document for NIC's approval; and submitting the document to NIC in hard copy and on disk in Microsoft Word 1997-2003 format.

Throughout the project period, the awardee should make provisions for meetings with NIC staff, to be held in Washington, DC, at critical planning and review points in document's development.

Document Preparation: For all awards in which a document will be a deliverable, the awardee must follow the Guidelines for Preparing and Submitting Manuscripts for Publication as found in the “General Guidelines for Cooperative Agreements,” which will be included in the award package.

Application Requirements: An application package must include OMB Standard Form 424, Application for Federal Assistance; a cover letter identifying the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (both available at http://www.grants.gov) and DOJ/NIC Certification Regarding Lobbying; Debarment, Suspension and Other Responsibility Matters; and the Drug-Free Workplace Requirements (available at http://www.nicic.gov/Downloads/PDF/certif-frm.pdf).

The application should be written concisely, typed double-spaced, and reference the NIC application number and title provided in this announcement.

If you are hand delivering or submitting an application via Fed-Ex, please include an original and three copies of your full proposal (program and budget narrative, application forms, and assurances). The original should have the applicant's signature in blue ink. As previously stated, electronic submissions will only be accepted via http://www.grants.gov.

The narrative portion of the application should include, at a minimum, a brief paragraph indicating the applicant's understanding of the purpose of the document and the issues to be addressed; a brief paragraph summarizing the project's goals and objectives; a clear description of the methodology that will be used to complete the project and achieve its goals; a statement or chart of measurable project milestones and timelines for completing each milestone; a description of the qualifications of the applicant organization and a resume for the principle and each staff member assigned to the project that documents relevant knowledge, skills, and ability to carry out the project; a minimum of three references for which the applicant has provided similar service; a budget that details all costs for the project, showing consideration for all contingencies for this project, and notes a commitment to work within the proposed budget; and a sample of at least one document completed by the applicant.

Applicants must specify their role in the production of the sample document(s).

Authority: Public Law 93-415.

Funds Available: NIC is seeking applicants' best ideas regarding accomplishments of the scope of work and the related costs for achieving the goals of this solicitation. Awardees may use funds only for the activities linked to the desired outcome of the project.

Eligibility of Applicants: Applications are solicited from any state or general unit of local government, private agency, educational institution, organization, individual or team with expertise in the described areas. Applicants must have demonstrated ability to implement a project of this size and scope.

Review Considerations: A team of NIC staff will review all applications.

Among the criteria to evaluate the applications are an indication of a clear understanding of the project requirements; background, experience, and expertise of the proposed project staff, including any subcontractors; effectiveness of the creative approach to the project; clear, concise description of all elements and tasks of the project, with sufficient and realistic timeframes necessary to complete the tasks; technical soundness of project design and methodology; financial and administrative integrity of the proposal, including adherence to federal financial guidelines and processes; a sufficiently detailed budget that shows consideration of all contingencies for this project and commitment to work within the budget proposed; working knowledge of jails and jail and criminal justice information systems; and availability to meet with NIC staff.

Note: NIC will NOT award a cooperative agreement to an applicant who does not have a Dun and Bradstreet Database Universal Number (DUNS) and is not registered in the Central Contractor Registry (CCR).

Applicants can receive a DUNS number at no cost by calling the dedicated toll-free DUNS number request line at 1-800-333-0505 (if you are a sole proprietor, dial 1-866-705-5711 and select option 1).

Applicants may register in the CCR online at the CCR Web site: http://www.ccr.gov. A CCR handbook and worksheet can also be reviewed at the Web site.

Number of Awards: One.

Applicants' Conference: An applicants' conference will be held on March 25, 2009 from 1 p.m. to 3 p.m. (EDT) at the NIC office, 500 1st Street, NW., 7th Floor, Washington, DC. The conference will give applicants the opportunity to meet with NIC project staff to ask questions about the project and the application procedures. Attendance at the conference is optional, and those who will be unable to attend in person may request a telephone conference instead. Applicants who plan to attend or who would like to participate via telephone should call Fran Zandi, NIC Jails Division, Correctional Program Specialist, at 1-800-995-6423, ext. 7-1070 by 4:30 p.m. (EDT) on March 20, 2009 to confirm attendance.

NIC Application Number 09J68.

Catalog of Federal Domestic Assistance Number: 16.601

Executive Order 12372: This project is not subject to the provisions of Executive Order 12372.

Thomas J. Beauclair,
Deputy Director, National Institute of Corrections.

[FR Doc. E9-5406 Filed 3-11-09; 8:45 am]

BILLING CODE 4410-36-P